DEPARTMENT OF THE INTERIOR

Bureau of Land Management

[20X LLUT920000 L13200000.EL0000]

Notice of Availability of the Environmental Assessment for Williams Draw Coal Tract Lease-by-Application UTU-80043, Emery County, Utah, and Notice of Online Public Hearing and Request for Comments on the Environmental Assessment, Fair Market Value, and Maximum Economic Recovery AGENCY: Bureau of Land Management, Interior

ACTION: Notice of availability; and online public hearing.

SUMMARY: The Bureau of Land Management (BLM) Utah State Office announces the availability of the Williams Draw Environmental Assessment (EA) for the Lease-By-Application (LBA) UTU-80043 for public review and comment. The BLM is also announcing an online public hearing to receive comments on the EA, Fair Market Value (FMV), and Maximum Economic Recovery (MER) of the coal resources contained in the proposed lease tract.

DATES: The online public hearing will be held on Sept. 30, 2020, from 7 p.m. to 9 p.m. (Mountain Daylight Time). Written comments for the EA should be received no later than Oct. 15, 2020. Written comments for the FMV and MER should be received no later than Oct. 30, 2020.

ADDRESSES: The online public hearing details, including the registration form link, meeting agenda, PowerPoint presentation, and transcript of the hearing, will be posted on the BLM'S ePlanning website at https://eplanning.blm.gov/eplanning-ui/project/1502605/510.

Registration is required for all participants. For participants who do not have online access or wish to participate via telephone, contact Andrea Johnson in the BLM Price Field Office at (435) 636-3600.

Written comments for the EA may be submitted through the BLM's e-planning site at https://eplanning.blm.gov/eplanning-ui/project/1502605/510, emailed to BLM_UT_PR_Comments@blm.gov, or mailed to Bureau of Land Management, Price Field Office, Attention: Williams Draw EA, 125 South 600 West, Price, Utah 84501.

Written comments for the FMV and MER should be addressed to Stan Perkes, BLM Utah State Office, Division of Lands and Minerals, 440 West 200 South, Suite 500, Salt Lake City, Utah 84101, or emailed to sperkes@blm.gov. A copy of the comments for FMV and MER, except those portions marked as “CONFIDENTIAL,” identified as proprietary by the author, and meeting one of the exemptions in the Freedom of Information Act, will be available for public review upon request at the Utah State Office.

FOR FURTHER INFORMATION CONTACT: Availability and information on the EA can be obtained by contacting Don Stephens at (435) 636-3608 or (dstephen@blm.gov). Persons who use a telecommunications device for the deaf may call the Federal Relay Service (FRS) at 1-800-877-8339 to leave a message or question for the above individual. The FRS is available 24 hours a day, 7 days a week. Replies are provided during normal business hours.

SUPPLEMENTARY INFORMATION: On March 1, 2002, UtahAmerican Energy Inc. (UEI) submitted an application for the coal lease. If the lease is obtained, UEI plans to mine the coal as an extension of its existing Lila Canyon Mine. The EA analyzes and discloses the potential direct, indirect, and cumulative impacts of leasing and subsequent mining of the proposed LBA tract. The Williams Draw coal tract has one minable coalbed called the Lower Sunnyside bed with underground minable portions of the coalbed ranging from approximately 4.2 to 13.1 feet in thickness. The tract contains approximately 64.6 million tons of high-volatile A bituminous coal in-place and, at an estimated 50 percent recovery, 32.3 million tons recoverable. The quality in the coal beds on an “as received basis” is as follows: 13,151 Btu/lb., 6.80 percent moisture, 9.85 percent ash, 40.50 percent volatile matter, 50.53 percent fixed carbon and 1.2 percent sulfur.

The tract is located in Emery County in the Book Cliffs coal field, approximately 125 miles southeast of Salt Lake City. The lands are described as follows:

Salt Lake Meridian, Utah

T. 16 S., R. 14 E.,

sec. 25, S1/2;

sec. 26, SE1/4 and SW1/4NE1/4;

sec. 35, NE1/4.

T. 16 S., R. 15 E.,

sec. 30, lots 3 and 4, and E1/2SW1/4;

sec. 31.

T. 17 S., R. 14 E.,

sec. 1, lots 1 thru 3, lots 6 thru 8, S1/2NE1/4, SE1/4NW1/4, E1/2SW1/4 and SE1/4;

sec. 12, NE1/4, E1/2NW1/4, NE1/4SW1/4, and N1/2SE1/4;

T. 17 S., R. 15 E.,

sec. 5, lots 3 and 4, S1/2NW1/4 and SW1/4;

secs. 6 and 7;

sec. 8, W1/2.

The area described contains 4,231.40 acres, according to the official plats of the surveys on file with the BLM.

The BLM online public hearing will require public registration, which will commence upon publication of the Federal Register Notice. Notices announcing the public hearing will be published in the Emery County Progress and Carbon County Sun Advocate.

The BLM will make every effort to accommodate speakers who register, although preference will be given to participants from the local area.

Each commenter will have three minutes to provide oral testimony.

Written statements and supporting information submitted during the comment period will be considered with the same weight as oral comments and supporting information presented at the online public hearing.

Proprietary data must be marked “CONFIDENTIAL” and shall be treated in accordance with the laws and regulations governing confidentiality of such information. Comments on the FMV and MER may include, but need not be limited to, the following topics:

1. The quality of the coal resource;

2. The mining methods or methods which would achieve MER of the coal, including specifications of seams to be mined and the most desirable timing and rate of production, restriction of mining, and the inclusion of the tracts in an existing or proposed mining operation;

3. Whether this tract is likely to be mined as part of an existing or a proposed mine and evaluated on a realistic incremental basis, in relation to the mine which has the greatest value;

4. Whether the tract should be evaluated as part of an existing mine or as a portion of a new potential mine;

5. Restrictions to mining that may affect coal recovery;

6. The price the mined coal would bring when sold;

7. Costs, including mining and reclamation, and the anticipated timing of production;

8. The percentage rate at which anticipated income streams should be discounted, either with inflation or in the absence of inflation, in which case the anticipated rate of inflation should be given;

9. Depreciation, depletion, amortization and other tax accounting factors;

10. Documented information on the terms and conditions of recent and similar coal land transactions in the lease sale area;

11. The value of any privately held mineral or surface estate in the lease sale area; and

12. Any potential or known competitive interest in the lease sale area.

Before including your address, phone number, email address, or other personal identifying information in your comment, please be aware that your entire comment, including your personal identifying information, may be made publicly available at any time. While you may request in your comment to withhold your personal identifying information from public review, the BLM cannot guarantee that it will be able to do so.

Authority: 40 CFR 1506.6, 43 CFR 3422.1, 3425.3, and 3425.4

Gregory Sheehan,
State Director.

[FR Doc. 2020-20033 Filed 9-15-20; 8:45 am]

BILLING CODE 4310-DQ-P